DEPARTMENT OF COMMERCE

National Oceanic and Atmospheric Administration

RIN 0648-XC100

Marine Mammals; File No. 17115

AGENCY: National Marine Fisheries Service (NMFS), National Oceanic and Atmospheric Administration (NOAA), Commerce.

ACTION: Notice; issuance of permit amendment.

SUMMARY: Notice is hereby given that a major amendment to Permit No. 17115-02 has been issued to James Lloyd-Smith, Ph.D., Department of Ecology and Evolutionary Biology, University of California, Los Angeles, 610 Charles E. Young Dr. South, Box 723905, Los Angeles, CA 90095-7239.

ADDRESSES: The permit amendment and related documents are available for review upon written request or by appointment in the following office:

Permits and Conservation Division, Office of Protected Resources, NMFS, 1315 East-West Highway, Room 13705, Silver Spring, MD 20910; phone: (301) 427-8401; fax: (301)713-0376.

FOR FURTHER INFORMATION CONTACT: Amy Sloan, (301) 427-8401.

SUPPLEMENTARY INFORMATION: On July 16, 2014, notice was published in the Federal Register (79 FR 41538) that a request for an amendment Permit No. 17115-02 to conduct research on California sea lions (Zalophus californianus) had been submitted by the above-named applicant. The requested permit amendment has been issued under the authority of the Marine Mammal Protection Act of 1972, as amended (16 U.S.C. 1361 et seq.), and the regulations governing the taking and importing of marine mammals (50 CFR part 216).

Permit No. 17115-03 authorizes the permit holder to study the prevalence of leptospirosis in wild California sea lions in California. The amendment authorizes the permit holder to expand the sampling season to any time of year excluding peak pupping season on rookeries, change the project location from Año Nuevo Island and Monterey Bay as separate locations to a combined coastal California area including offshore islands, increase the number of sea lions sampled, add captures of pups, add water captures and use of injectable drugs, increase incidental disturbance of California sea lions and add incidental disturbance of eastern Steller sea lions (Eumetopias jubatus) and northern fur seals (Callorhinus ursinus), and take additional samples in the event of an unusual mortality event or disease outbreak. The permit expires September 30, 2017.

In compliance with the National Environmental Policy Act of 1969 (42 U.S.C. 4321 et seq.), a final determination has been made that the activity proposed is categorically excluded from the requirement to prepare an environmental assessment or environmental impact statement.

Dated: October 8, 2014.
Julia Harrison,
Chief, Permits and Conservation Division, Office of Protected Resources, National Marine Fisheries Service.

[FR Doc. 2014-24332 Filed 10-10-14; 8:45 am]

BILLING CODE 3510-22-P